DEPARTMENT OF HOMELAND SECURITY

Federal Emergency Management Agency

[Docket ID: FEMA-2011-0029; OMB No. 1660-0095]

Agency Information Collection Activities: Proposed Collection; Comment Request; National Flood Insurance Program Claims Appeals Process

AGENCY: Federal Emergency Management Agency, DHS.

ACTION: Notice.

SUMMARY: The Federal Emergency Management Agency, as part of its continuing effort to reduce paperwork and respondent burden, invites the general public and other Federal agencies to take this opportunity to comment on a proposed revision of a currently approved information collection. In accordance with the Paperwork Reduction Act of 1995, this notice seeks comments concerning revision of the National Flood Insurance Claims Appeals Process. The appeal process establishes a formal mechanism to allow policyholders to appeal the decisions of any insurance agent, adjuster, insurance company, or any FEMA employee or contractor, in cases or unsatisfactory decisions on claims, proof of loss, and loss estimates.

Under this process, FEMA sends the NFIP Flood Insurance Claims Handbook to the policyholder (upon completion of signed policy), which explains to them the appeals process. If the policyholder wishes to appeal a claims decision, that policyholder may appeal it to FEMA. FEMA will acknowledge receipt of a policyholder's appeal in writing and advise such policyholder if additional information is required in order to fully consider the appeal. FEMA will review the documentation submitted by the policyholder, conduct any necessary additional investigation, and advise, both the policyholder and the appropriate flood insurance carrier, of its decision regarding the appeal.

DATES: Comments must be submitted on or before December 19, 2011.

ADDRESSES: To avoid duplicate submissions to the docket, please use only one of the following means to submit comments:

(1) Online. Submit comments at http://www.regulations.gov under Docket ID FEMA-2011-0029. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0029 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Dennis Kuhns, Division Director, Risk Insurance Division, 202-212-0429 for additional information. You may contact the Records Management Division for copies of the proposed collection of information at facsimile number (202) 646-3347 or e-mail address: FEMA-Information-Collections-Management@dhs.gov.

SUPPLEMENTARY INFORMATION: Section 205 of The Bunning-Bereuter-Blumenauer Flood Insurance Reform Act of 2004, Public Law 108-264 Section 205, 42 U.S.C. 4011 note, requires the Federal Emergency Management Agency to establish by regulation an additional process for the appeal of decisions of flood insurance claims issued through the National Flood Insurance Program. FEMA's regulation at 44 CFR 62.20 details the appeals process.

The process requires policyholders to submit a written appeal to the Federal Emergency Management Agency (Mitigation Directorate/Risk Insurance Division), in the form of a signed letter explaining the nature of their claim appeal, names and titles of persons contacted, dates of contact, contact information, and details of the contact relevant to their claim appeal. These requirements are spelled out to policyholders in the aforementioned NFIP Flood Insurance Claims Handbook. The policyholders are also required to state the basis for their appeal and submit supporting documentation including a copy of the insurer's written denial, in whole or in part, of the claim.

Collection of Information

Title: National Flood Insurance Program Claims Appeals Process.

Type of Information Collection: Revision of a currently approved information collection.

OMB Number: 1660-0095.

Form Titles and Numbers: None.

Abstract: The NFIP claims appeals process requires policyholders to submit a written appeal to the Federal Emergency Management Agency (Mitigation Directorate/Risk Insurance Division), in the form of a signed letter explaining the nature of their claim appeal, names and titles of persons contacted, dates of contact, contact information, and details of the contact relevant to their claim appeal. The policyholders are also required to state the basis for their appeal and submit supporting documentation including a copy of the insurer's written denial, in whole or in part, of the claim.

Affected Public: Individuals or households and Business or other-for-profits.

Estimated Total Annual Burden Hours: 2110 hours.

Estimated Cost: The cost to policyholders would be an annual cost of $464.20 for postage.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Gary L. Anderson,
Acting Chief Administrative Officer, Mission Support Bureau, Federal Emergency Management Agency, Department of Homeland Security.

[FR Doc. 2011-26942 Filed 10-17-11; 8:45 am]

BILLING CODE 9110-11-P